DEPARTMENT OF ENERGY

Federal Energy Regulatory Commission

Combined Notice of Filings

Take notice that the Commission has received the following Natural Gas Pipeline Rate and Refund Report filings:

Docket Numbers: RP11-2009-000.

Applicants: Centra Pipelines Minnesota Inc.

Description: Centra Pipelines Minnesota Inc. submits tariff filing per 154.204: Revised Index of Shippers Filing to be effective 6/1/2011.

Filed Date: 04/18/2011.

Accession Number: 20110418-5156.

Comment Date: 5 p.m. Eastern Time on Monday, May 02, 2011.

Docket Numbers: RP11-2010-000.

Applicants: Colorado Interstate Gas Company.

Description: Colorado Interstate Gas Company submits tariff filing per 154.204: CIG System Map Update to be effective 6/1/2011.

Filed Date: 04/18/2011.

Accession Number: 20110418-5163.

Comment Date: 5 p.m. Eastern Time on Monday, May 02, 2011.

Docket Numbers: RP11-2011-000.

Applicants: El Paso Natural Gas Company.

Description: El Paso Natural Gas Company submits tariff filing per 154.204: System Map Update to be effective 6/1/2011.

Filed Date: 04/18/2011.

Accession Number: 20110418-5166.

Comment Date: 5 p.m. Eastern Time on Monday, May 02, 2011.

Docket Numbers: RP11-2012-000.

Applicants: Wyoming Interstate Company, L.L.C.

Description: Wyoming Interstate Company, L.L.C. submits tariff filing per 154.204: System Map Update to be effective 6/1/2011.

Filed Date: 04/18/2011.

Accession Number: 20110418-5168.

Comment Date: 5 p.m. Eastern Time on Monday, May 02, 2011.

Docket Numbers: RP11-2013-000.

Applicants: Midwestern Gas Transmission Company.

Description: Midwestern Gas Transmission Company submits tariff filing per 154.204: Proliance FA0742 to be effective 5/1/2011.

Filed Date: 04/18/2011.

Accession Number: 20110418-5223.

Comment Date: 5 p.m. Eastern Time on Monday, May 02, 2011.

Docket Numbers: RP11-2014-000.

Applicants: Black Marlin Pipeline Company.

Description: Black Marlin Pipeline Company submits tariff filing per 154.204: Gas Quality Waiver to be effective 5/1/2011.

Filed Date: 04/18/2011.

Accession Number: 20110418-5228.

Comment Date: 5 p.m. Eastern Time on Monday, May 02, 2011.

Docket Numbers: RP11-2015-000.

Applicants: Eastern Shore Natural Gas Company.

Description: Eastern Shore Natural Gas Company 2011 IT Revenue Sharing.

Filed Date: 04/18/2011.

Accession Number: 20110418-5235.

Comment Date: 5 p.m. Eastern Time on Monday, May 02, 2011.

Docket Numbers: RP11-2016-000.

Applicants: Natural Gas Pipeline Company of America LLC.

Description: Natural Gas Pipeline Company of America LLC submits tariff filing per 154.204: Filing to Remove Expired Agreements to be effective 5/1/2011.

Filed Date: 04/19/2011.

Accession Number: 20110419-5094.

Comment Date: 5 p.m. Eastern Time on Monday, May 02, 2011.

Docket Numbers: RP11-2018-000.

Applicants: CenterPoint Energy—Mississippi River Transmission, LLC.

Description: CenterPoint Energy—Mississippi River Transmission, LLC submits tariff filing per 154.204: Housekeeping Filing to be effective 5/20/2011.

Filed Date: 04/19/2011.

Accession Number: 20110419-5178.

Comment Date: 5 p.m. Eastern Time on Monday, May 02, 2011.

Docket Numbers: RP11-2019-000.

Applicants: Maritimes & Northeast Pipeline, L.L.C.

Description: Maritimes & Northeast Pipeline, L.L.C. submits tariff filing per 154.204: Negotiated Rate Agreement—Shell Energy North America to be effective 4/12/2011.

Filed Date: 04/19/2011.

Accession Number: 20110419-5190.

Comment Date: 5 p.m. Eastern Time on Monday, May 02, 2011.

Docket Numbers: RP11-2020-000.

Applicants: Gulf South Pipeline Company, LP.

Description: Gulf South Pipeline Company, LP submits tariff filing per 154.204: Devon 34694-29 Amendment to Negotiated Rate Agreement to be effective 4/20/2011.

Filed Date: 04/20/2011.

Accession Number: 20110420-5102.

Comment Date: 5 p.m. Eastern Time on Monday, May 02, 2011.

Docket Numbers: RP11-2021-000.

Applicants: Florida Gas Transmission Company, LLC.

Description: Florida Gas Transmission Company, LLC submits tariff filing per 154.204: Housekeeping 4-20-11 to be effective 5/21/2011.

Filed Date: 04/20/2011.

Accession Number: 20110420-5125.

Comment Date: 5 p.m. Eastern Time on Monday, May 02, 2011.

Docket Numbers: RP11-2022-000.

Applicants: Dauphin Island Gathering Partners.

Description: Dauphin Island Gathering Partners submits tariff filing per 154.204: Nonconforming Agreements 2011-05 to be effective 5/1/2011.

Filed Date: 04/20/2011.

Accession Number: 20110420-5128.

Comment Date: 5 p.m. Eastern Time on Monday, May 02, 2011.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 21, 2011.
Nathaniel J. Davis, Sr.,
Deputy Secretary.

[FR Doc. 2011-10056 Filed 4-26-11; 8:45 am]

BILLING CODE 6717-01-P